DEPARTMENT OF THE INTERIOR

Meeting To Update Stakeholders on the Progress of the Recreation One-Stop Initiative

Date: Thursday, November 21, 2002.

Registration: 12:30 p.m.-1 p.m.

Meeting: 1 p.m.-4 p.m.

Location: American Institute of Architects (AIA), 1735 New York Avenue NW., Washington, DC 20006.

Background

Recreation.gov (www.recreation.gov) is an Internet portal providing one-stop access to federal recreation information. The service, which is hosted by the Interior Department, is a partnership among Federal natural resources agencies, with participation from State and local agencies. Recreation.gov is being expanded to a broader service called Recreation One-Stop. The Administration's E-Government task force selected Recreation One-Stop as one of 24 government-wide Internet projects intended to expand and improve on-line access to government information and services. The goals of the Recreation One-Stop initiative are to improve the quality and availability of recreation information through partnerships, data sharing, and innovative uses of technology.

The Recreation One-Stop Team held a public meeting on March 7, 2002, in Washington, DC to discuss the goals and objectives of the project, and to obtain feedback from stakeholders and interested parties. A summary of the meeting is available on the web at http://recreation.gov/summary.cfm.

The project team has taken action on many of the recommendations made at the March 7 meeting. Additional features have been added to the Recreation.gov site, and the project team commissioned an independent report by the Industry Advisory Council (IAC) to identify best practices related to development of data standards and governance of intergovernmental portal projects.

Purpose of Meeting

The purpose of this meeting is to provide the public and our stakeholders with an update on actions taken since the March meeting, and to solicit feedback and suggestions on the next phases of the project.

Topics

Areas to be covered at the meeting include the following:

Update: The Recreation One-Stop Team will provide an overview of actions taken since the last stakeholder meeting, and provide an overview of the IAC best practices study.

Technology: One of the common themes from the March stakeholder meeting was the importance of developing data standards and the importance of data quality and availability. The status of intergovernmental data standards for recreation will be discussed.

Governance: Recreation One-Stop is evolving toward a Federal-State/Public-Private partnership to promote data sharing related to recreational resources. One of the issues to be discussed is the development of an appropriate governance structure for this initiative.

Attendance

This is a public meeting open to anyone interested in learning more about Recreation One-Stop and providing input on the development of the project. For more information, please contact Charlie Grymes at the Department of the Interior at 202-219-1285. Space is limited; if you plan to attend, please respond by November 14 to Angela Mathews at 202-208-5606. Please let us know if you have special needs.

Other Details

The AIA building is directly behind the Octagon House. The closest Metro stops are Farragut West (Blue and Orange Line) and Farragut North (Red Line). Exit the Metro on the 18th Street side and walk approximately 4 blocks south. Street parking is available, but parking in this area is limited. There is parking available for a fee at the Colonial parking garage at G and 18th St. There are also numerous coffee shops and restaurants in the area.

Dated: November 7, 2002.
Scott Cameron,
Deputy Assistant Secretary, Performance and Management.

[FR Doc. 02-28916 Filed 11-13-02; 8:45 am]

BILLING CODE 4310-RK-M